FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 4, 2021.

A. Federal Reserve Bank of New York (Ivan Hurwitz, Senior Vice President) 33 Liberty Street, New York, New York 10045-0001. Comments can also be sent electronically to Comments.applications@ny.frb.org:

1. Lucia de Campos Faria, Junia de Campos Faria Ziegelmeyer, and Eliana de Campos Faria, all of Sao Paulo, Brazil; Flavia Faria Vasconcellos, Rio de Janeiro, Brazil; The FC Family Trust, The White Dahlia Company Inc., as trustee, both of Hampton, New Hampshire; and Claudia de Faria Carvalho, New York, New York, as primary beneficiary of the FC Family Trust; to acquire voting shares of Delta Investment Company (Cayman), George Town, Cayman Islands, and thereby indirectly acquire voting shares of Delta National Bank and Trust Company, New York, New York.

B. Federal Reserve Bank of Chicago (Colette A. Fried, Assistant Vice President) 230 South LaSalle Street, Chicago, Illinois 60690-1414:

1. The James G. Fitzgerald Trust dated August 31, 1988, the Gerald F. Fitzgerald Family Trust UAD January 18, 1988, the Spoonbill Trust, the Anhinga Trust, and the Sandhill Trust, James G. Fitzgerald, as trustee to all trusts, and all of Naples, Florida; the Whooper Trust, Jane M. Fitzgerald, as trustee, both of Naples, Florida; and the Gerald F. Fitzgerald, Jr. Trust dated September 10, 1987, Gerald F. Fitzgerald, Jr., as trustee, both of Chicago, Illinois; to join the Fitzgerald Family Control Group, a group acting in concert to acquire additional voting shares of Southern Wisconsin Bancshares Corporation, Inverness, Illinois and thereby indirectly acquire voting shares of Farmers Savings Bank, Mineral Point, Wisconsin.

C. Federal Reserve Bank of St. Louis (Holly A. Rieser, Manager) P.O. Box 442, St. Louis, Missouri 63166-2034. Comments can also be sent electronically to Comments.applications@stls.frb.org:

1. John Russell Meeks, Fayetteville, Arkansas; to acquire additional voting shares of Chambers Bancshares, Inc., and thereby indirectly acquire voting shares of Chambers Bank, both of Danville, Arkansas.

D. Federal Reserve Bank of Dallas (Karen Smith, Director, Applications) 2200 North Pearl Street, Dallas, Texas 75201-2272:

1. Stephen Van Eversull, Natchitoches, Louisiana; to acquire additional voting shares of City Bancshares, Inc., and thereby indirectly acquire voting shares of City Bank & Trust Company, both of Natchitoches, Louisiana.

Board of Governors of the Federal Reserve System, September 14, 2021.
Michele Taylor Fennell,
Deputy Associate Secretary of the Board.

[FR Doc. 2021-20178 Filed 9-16-21; 8:45 am]

BILLING CODE P